DEPARTMENT OF COMMERCE

International Trade Administration

[Docket Number: 100419191-0191-01]

RIN 0625-XA06

Elimination of Form ITA—362P, Information on Articles for Physically or Mentally Handicapped Persons Imported Duty-Free

AGENCY: Import Administration, International Trade Administration, Department of Commerce.

ACTION: Notice.

SUMMARY: Through this action, the Department of Commerce's International Trade Administration (ITA) notifies the public that Form ITA-362P, which importers of articles for the handicapped were required to complete in order to receive duty-free treatment, has been discontinued as of May 31, 2010. Form ITA-362P has been eliminated because the majority of the information obtained through this form is currently available to ITA through Customs and Border Protection's (CBP) Automated Commercial System (ACS), and therefore the form has become redundant. ITA reserves its right to request information from importers in addition to that available through an ACS data query, in the case that it must perform an adverse impact assessment pursuant to section § 1121(g) of the Omnibus Trade and Competitiveness Act of 1988.

ADDRESSES: Copies of this notice can be obtained from ITA at 1401 Constitution Ave., NW., Room 3720, Washington, DC 20230.

FOR FURTHER INFORMATION CONTACT: Questions about this notice can be directed to Callie Conroy at 202-482-0754 or via the Internet at callie.conroy@trade.gov.

Background: On May 21, 1952, the Agreement on the Important of Educational, Scientific and Cultural Materials (17 UST 1835; TIAS 6129; 131 UNTS 25), otherwise known as the “Florence Agreement,” entered into force at the United Nations. Pursuant to the Florence Agreement, signatories agreed to allow the duty-free treatment of goods that were determined to facilitate the free exchange of knowledge and ideas. In 1976, the “Nairobi Protocol,” a supplementary agreement to the Florence Agreement, expanded the scope of the Florence Agreement to include duty-free treatment of imports of articles for the use or benefit of physically or mentally handicapped persons, as well as for the blind.

To enact the Florence Agreement, including the Nairobi Protocol, in 1982, Congress passed the Educational, Scientific, and Cultural Materials Act of 1982 (Pub. L. 97-446, 96 Stat. 2346), which provided for duty-free treatment of “[a]rticles specially designed or adapted for the use or benefit of the blind or other physically or mentally handicapped persons.” This provision was implemented by Presidential Proclamation 5021, dated February 14, 1983 (48 FR 6883). In 1988, the Congress re-enacted the provisions implementing the Nairobi Protocol in § 1121 of the Omnibus Trade and Competitiveness Act of 1988 (“the Act”), Public Law 100-418, 102 Stat. 1107, as amended by section 9001(a)(17) of the Technical and Miscellaneous Revenue Act of 1988, Public Law 100-647. Section 1121 of the Act, along with Presidential Proclamation 5978 (54 FR 21187, May 12, 1989), implemented the Nairobi Protocol under subheadings 9817.00.92, 9817.00.94, and 9817.00.96, of the Harmonized Tariff Schedule of the United States (HTSUS), and became effective on January 1, 1989.

Section 1121(g) of the Act gives the President the ability to modify the tariff treatment of articles for the handicapped in the event that such treatment creates a “significant adverse impact on a domestic industry (or a portion thereof) manufacturing or producing a like or directly competitive article.” The law directs the Secretaries of the Treasury (who at the time was the head of the U.S. Customs Service) and of Commerce to collect “adequate statistical information” in the case that a determination under § 1121(g) needs to be made. See Section 1121 (i) of the Act.

To implement § 1121(i) of the Act, ITA created and issued Form ITA-362P, Information on Articles for Physically or Mentally Handicapped Persons Imported Free of Duty. Through this form, ITA collects statistical information on duty-free imports of handicapped equipment. In order to obtain duty-free treatment for handicapped articles, importers were required to submit a paper copy of Form ITA-362P to both CBP and to ITA. The form required that the importer, inter alia, describe the imported articles, and indicate the HTSUS chapter subheading applicable to the import.

However, in reviewing the continued necessity of its forms, pursuant to the Paperwork Reduction Act, 44 U.S.C. 3501-3521, ITA has determined that most of the information it required of importers through Form ITA-362P can be obtained through CBP's ACS. Further, pursuant to a Memorandum of Understanding between ITA and CBP, ITA has access to this information through a data query of the ACS, thus satisfying its responsibilities under § 1121(i) of the Act. Accordingly, ITA has determined that Form ITA-362P can be discontinued.

ITA notes that despite the discontinuance of Form ITA-362P, imports under this provision are still subject to the applicable laws and requirements for customs entry. Additionally, ITA reserves its right to request additional information from importers in the case that it must perform an adverse impact assessment pursuant to section § 1121(g) of the Act. Thus, if ITA finds that it requires additional information (apart from that available under an ACS query) to perform an adverse impact assessment, importers requesting duty-free treatment under this provision may be required to provide ITA with additional information e.g., the type of entity that is purchasing or importing the article, and the ultimate disposition of the article.

Dated: May 24, 2010.
Ronald K. Lorentzen,
Deputy Assistant Secretary for Import Administration.

[FR Doc. 2010-13052 Filed 5-28-10; 8:45 am]

BILLING CODE 3510-DS-P